DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 A.M. and 5 P.M. in Suite 4100W, U.S. Department of Commerce, Franklin Court Building, 1099 14th Street, NW., Washington, DC.

Docket Number: 01-022. Applicant: The Scripps Research Institute, 10550 North Torrey Pines Road, La Jolla, CA 92037. Instrument: Electron Microscope, Model Tecnai F20T. Manufacturer: FEI Company, The Netherlands. Intended Use: The instrument is intended to be used in the study of the following:

(1) Cowpea Mosaic Virus isolated from infected plants.

(2) NwV Mosaic Virus isolated from insect cells.

(3) Muscle Proteins isolated from vertebrate striated and smooth muscle fibers.

(4) Microtubules and associated proteins isolated from bovine brain or from bacterial expression systems.

(5) CHIP28 Water Channels isolated from human erythrocytes.

(6) Aqua Porins isolated from plants.

(7) Acetylcholine Receptors isolated from the electric organ of Torpedo californica and T.marmorata.

(8) Gap Junctions isolated from rat hearts and liver as well as from tissue culture expression systems.

(9) Rotavirus and Reovirus isolated from infected tissue culture cells.

(10) Transcription Complexes from bacterial and yeast expression systems.

(11) A number of enzyme complexes: fatty acid synthane, gylceraldehyde-3-phosphate dehydrogenase, hemocyanin, GroEL, isolated from various tissues of animal and plant origin.

(12) Tobacco Mosaic Virus isolated from infected plants.

The goals of the investigations are in general to understand the structural basis for how the subcellular organelles function and to elucidate the role that they play in the life of the cell.

Application accepted by Commissioner of Customs: October 14, 2001.

Gerald A. Zerdy,
Program Manager, Statutory Import Programs Staff.

[FR Doc. 02-1132 Filed 1-15-02; 8:45 am]

BILLING CODE 3510-DS-P